DEPARTMENT OF COMMERCE

National Oceanic and Atmospheric Administration

[I.D. 041107B]

Endangered Species; File No. 1595

AGENCY: National Marine Fisheries Service (NMFS), National Oceanic and Atmospheric Administration (NOAA), Commerce.

ACTION: Notice; issuance of permit.

SUMMARY: Notice is hereby given that Michael M. Hastings, University of Maine, 5717 Corbett Hall, Orono, Maine 04469, has been issued a permit to take shortnose sturgeon (Acipenser brevirostrum) for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

FOR FURTHER INFORMATION CONTACT: Brandy Hutnak or Malcolm Mohead, (301)713-2289.

SUPPLEMENTARY INFORMATION: On January 16, 2007, notice was published in the Federal Register (72 FR 1706) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

This permit authorizes Michael Hastings to annually capture, anesthetize, measure, weigh, sex (borescope), tissue sample, scan (for tags), Carlin tag, PIT tag, recover, and release up to 70 sub-adult and adult shortnose sturgeon annually. Additionally, up to 30 sub-adult and adult shortnose sturgeon, annually, would be fitted/implanted with an external/internal transmitter. This project also includes the annual lethal take of up to 50 shortnose sturgeon eggs. Up to 2 incidental mortalities of shortnose sturgeon each year is also being authorized. This research will help assess the distribution, abundance, and movements, as well as document spawning, of shortnose sturgeon in the Penobscot River System, Maine.

Issuance of this permit, as required by the ESA, was based on a finding that such permit (1) was applied for in good faith, (2) will not operate to the disadvantage of such endangered or threatened species, and (3) is consistent with the purposes and policies set forth in section 2 of the ESA.

Dated: April 11, 2007.
P. Michael Payne,
Chief, Permits, Conservation and Education Division, Office of Protected Resources, National Marine Fisheries Service.

[FR Doc. E7-7378 Filed 4-17-07; 8:45 am]

BILLING CODE 3510-22-S